INTERNATIONAL BOUNDARY AND WATER COMMISSION, UNITED STATES AND MEXICO

Notice of Availability of an Amended Draft Environmental Assessment (EA) and Finding of No Significant Impact (FONSI) for Aquatic Habitat Restoration in the Rio Grande Canalization Project

AGENCY: United States Section, International Boundary and Water Commission, United States and Mexico (USIBWC).ACTION: Notice.

SUMMARY: Pursuant to the National Environmental Policy Act (NEPA) of 1969, the Council on Environmental Quality Final Regulations, and USIBWC Operational Procedures for Implementing Section 102 of NEPA, published in the Federal Register September 2, 1981, the USIBWC hereby gives notice that the amended Draft Environmental Assessment (EA) and Finding of No Significant Impact (FONSI) for Aquatic Habitat Restoration in the Rio Grande Canalization Project is available. The EA seeks to identify, develop, and design aquatic projects to implement aquatic habitat, wetland, and riparian habitat restoration for the Rio Grande Canalization Project (RGCP). An Environmental Impact Statement will not be prepared unless additional information which may affect this decision is brought to our attention within 30 days from the date of this Notice.

DATES: Public Comments: USIBWC will consider substantive comments from the public and stakeholders for 30 days after the date of publication of this notice in the Federal Register.

Please note all written and email comments received during the comment period will become part of the public record, including any personal information you may provide. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

ADDRESSES: Comments should be sent to: Elizabeth Verdecchia, Natural Resources Specialist, USIBWC, 4191 N Mesa; El Paso, Texas 79902. Telephone: (915) 832-4701, Fax: (915) 493-2428, email: Elizabeth.Verdecchia@ibwc.gov.

FOR FURTHER INFORMATION CONTACT: Elizabeth Verdecchia, Natural Resources Specialist, Telephone: (915) 832-4701, email: Elizabeth.Verdecchia@ibwc.gov.

SUPPLEMENTARY INFORMATION: On June 4, 2009, the USIBWC issued a Record of Decision (ROD) on the long-term management of the RGCP in southern New Mexico and western Texas. The ROD committed the USIBWC to the restoration of aquatic and riparian habitat at up to 30 sites over 10 years (through 2019). In May 2019, the USIBWC prepared a Draft EA to analyze the potential impact of seven action alternatives and a No Action Alternative to implement aquatic habitat within the RGCP, and the USIBWC extended the comment period (Federal Register July 22, 2019). After public input and subsequent development of preliminary designs, USIBWC re-evaluated alternative sites for aquatic habitat and assessed the feasibility of three additional sites, two of which were added to the EA. The USIBWC has prepared an Amended Draft EA, which evaluates potential impacts of ten alternatives, including the No Action Alternative and the following sites: Yeso Arroyo, Angostura Arroyo, Broad Canyon Arroyo, Selden Point Bar, Las Cruces Effluent, Mesilla Valley Bosque State Park, Downstream of Courchesne Bridge, Trujillo Restoration Site, and Montoya Intercepting Drain.

Restoration actions could include invasive vegetation removal, native vegetation planting, overbank lowering, bank cuts, natural levee breaches, secondary channels, bank destabilization, channel widening, arroyo mouth management, construction of inset floodplains, construction of wetland depressions, and use of supplemental water for on-site irrigation.

Based on a review of the facts and analyses contained in the Amended Draft EA, the USIBWC has selected five projects as the Preferred Alternatives: Alternative D—Broad Canyon Arroyo, Alternative F—Las Cruces Effluent, Alternative G—Mesilla Valley Bosque State Park (MVBSP), Alternative H—Downstream of Courchesne Bridge, and Alternative J—Trujillo Arroyo. Alternatives Las Cruces Effluent and Downstream of Courchesne Bridge would require engineering designs prior to construction, while Alternatives Broad Canyon Arroyo and Trujillo Restoration Site, which are smaller and less complicated projects, could be constructed from conceptual designs. Downstream of Courchesne Bridge would be implemented as part of compensatory mitigation for future levee improvement projects. All alternatives would require appropriate permits from the United States Army Corps of Engineers for dredge and fill of Waters of the United States, per the Clean Water Act Sections 404 and 401.

Potential impacts on natural, cultural, and other resources were evaluated in the Draft EA. The USIBWC has prepared a FONSI for the Preferred Alternatives, based on a review of the facts and analyses contained in the amended Draft EA.

Availability: The electronic version of the amended Draft EA is available at the USIBWC web page: https://www.ibwc.gov/EMD/EIS_EA_Public_Comment.html.

Dated: February 10, 2021.
Jennifer Peña,
Chief Legal Counsel, International Boundary and Water Commission, United States Section.

[FR Doc. 2021-03303 Filed 2-18-21; 8:45 am]

BILLING CODE 7010-01-P